DEPARTMENT OF THE INTERIOR

Bureau of Land Management

[LLMTB05000 L12320000.FV0000 LVDRMT050000.XXXL5413AR]

Notice of Intent To Collect Fees at the Henneberry House on Public Land in Beaverhead County, Montana

AGENCY: Bureau of Land Management, Interior.

ACTION: Notice of intent.

SUMMARY: Pursuant to the Federal Lands Recreation Enhancement Act (REA), the Bureau of Land Management (BLM) Dillon Field Office is proposing to charge an expanded amenity recreation fee for recreational rental of the Henneberry House (or Ney House), a historic cabin along the Beaverhead River, approximately 15 miles south of Dillon, Montana.

DATES: To ensure that comments will be considered, the BLM must receive written comments on the proposed cabin rental fees by May 15, 2013. Six months after the publication of this notice, the BLM Dillon Field Office will begin charging an expanded amenity fee for the recreational rental of Henneberry House. The Western Montana Resource Advisory Council will review consideration of the new fees prior to the proposed initiation date.

ADDRESSES: Comments may be mailed or hand delivered to the BLM Dillon Field Office, Attn: Field Manager, 1005 Selway Drive, Dillon, MT 59725, or emailed to BLM_MT_Dillon_FO@blm.gov.

FOR FURTHER INFORMATION CONTACT: Rick Waldrup, BLM Outdoor Recreation Planner, at the above address, or by calling 406-683-8000. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to the REA (16 U.S.C. 6801 et seq.), the Secretary may establish, modify, charge and collect recreation fees at Federal recreation lands and waters. Specifically, pursuant to Section 6802 (g)(2)(C) of the REA, the Secretary may charge an expanded amenity recreation fee, either in addition to a standard amenity fee, or by itself, for the rental of cabins or historic structures. Therefore, by this Notice, the BLM Dillon Field Office is proposing to collect an expanded amenity fee for the rental of the Henneberry House cabin and historic site. Proposed cabin rental fees would be identified and posted on the Dillon Field Office Web site, at the Dillon Field Office, and distributed in the local media. Fees would be collected as outlined in the field office's Fee Business Plan. The Henneberry House is the historic house associated with the Henneberry Homestead built in 1905. The William F. Henneberry homestead is one of the best preserved examples of early homesteading activities that remain on public lands in Beaverhead County. The buildings and the landscape have not been greatly modified or changed since 1883 when William F. Henneberry settled on the property. The Henneberry homestead reflects the agricultural patterns of ranching that still characterize the county and the settlement patterns that helped establish Beaverhead County.

The 1905 house represents the distinct characteristics of log structure construction in the late 1800s early 1900s. The building displays excellent workmanship, with detailed full dovetail notching, and, given its age, is in remarkably good condition. This historic property was in a state of disrepair and would likely have been lost without restoration efforts to protect the property. Funding under the American Recovery and Reinvestment Act enabled the BLM to prevent the loss of this property to the elements. The Henneberry House is in the immediate vicinity of several popular recreational activities that are available on the surrounding public lands, including fishing on the Beaverhead River, waterfowl hunting on the river and adjacent man-made duck ponds and hunting both in the river corridor and surrounding uplands. The BLM is committed to providing and receiving fair value for the use of developed recreation facilities and services in a manner that meets public-use demands, provides quality experiences, and protects important resources. In an effort to meet increasing demands for services and maintenance of this existing historic structure, the BLM would collect fees to offset those ongoing costs.

The BLM's mission for the Dillon Field Office Fee Business Plan (Project) is to ensure that funding is available to maintain existing facilities and recreational opportunities, to provide for law enforcement presence, to develop additional services, and to protect resources. This mission entails communication with those who will be most directly affected by the Project, for example recreationists, other recreation providers, neighbors, as well as those who will have a stake in solving concerns that may arise throughout the life of the Project, including elected officials and other agencies. In February 2006, the BLM completed the Record of Decision (ROD) and Approved Dillon Resource Management Plan which emphasizes protection and restoration of the natural resources while still providing for resource use and enjoyment. This 2006 ROD provides for enhancing recreation opportunities and maintaining existing facilities to a standard consistent with the recreational setting. Collecting expanded amenity fees for Henneberry House rentals would provide a reliable source of funding to ensure the long-term maintenance of this facility for future recreational use. The collection of user fees was also addressed in the Dillon Field Office Recreation Fee Business Plan, prepared pursuant to the REA and BLM recreation fee program policy. This Business Plan establishes the rationale for charging recreation fees. In accordance with BLM recreation fee program policy, the Business Plan explains the fee collection process and outlines how the fees will be used within the Dillon Field Office. The BLM has notified and involved the public at each stage of the public participation process addressed by REA, including the proposal to collect fees, through the Western Montana Resource Advisory Council and other public scoping avenues.

Fee amounts will be posted on the BLM Dillon Field Office Web site and at the Dillon Field Office. Copies of the Fee Business Plan are available at the Dillon Field Office and the BLM Montana State Office.

The BLM welcomes public comments on this Notice and on the proposed expanded amenity recreation fee at the Henneberry House.

Before including your address, phone number, email address or other personal identifying information in your comment, be advised that your entire comment—including your personal identifying information—may be made publicly available at any time. While you can ask us in your comment to withhold your personal identifying information from public review, we cannot guarantee that we will be able to do so.

Authority: 16 U.S.C. 6803(b); 43 CFR 2932.31.

Cornelia H. Hudson,
Field Manager.

[FR Doc. 2013-08757 Filed 4-12-13; 8:45 am]

BILLING CODE 4310-DN-P